DEPARTMENT OF THE INTERIOR

Bureau of Land Management

[MT-069-1610-DP-024E]

Notice of Availability of the Draft Resource Management Plan and Environmental Impact Statement (DRMP/EIS) for the Upper Missouri River Breaks National Monument, MT

AGENCY: Bureau of Land Management, Interior.

ACTION: Notice of availability.

SUMMARY: In accordance with the National Environmental Policy Act of 1969 and under the authority of the Federal Land Policy and Management Act of 1976, the Bureau of Land Management (BLM) has prepared a Draft Resource Management Plan and Environmental Impact Statement (DRMP/EIS) for public land and resources in the Upper Missouri River Breaks National Monument, Montana. BLM invites the public to review and comment on the range and adequacy of the draft alternatives and their associated environmental effects. The DRMP/EIS provides direction and guidance for the management of about 375,000 acres of public land and 42,800 acres of existing oil and gas leases.

DATES: The comment period will end 90 days after the Environmental Protection Agency publishes a Notice of Availability in the Federal Register announcing the availability of this DRMP/EIS. In order to assure that comments will be considered, they must be received by BLM on or before the end of the comment period at the address listed below. BLM will hold public meetings during the comment period and will announce their exact time and location at least 15 days in advance through public notices, media news releases, newsletter mailings, and on the following Web site (subject to availability): http://www.blm.gov/nhp./spotlight/state_info/planning.htm.

ADDRESSES: Written comments should be sent to: Monument RMP Team, BLM Lewistown Field Office, 920 NE Main Street, PO Box 1160, Lewistown, Montana 59457. Comments may also be sent by e-mail to MonumentRMP@blm.gov. Documents pertinent to the DRMP/EIS and written comments, including names and street addresses of respondents, will be available for public review at the Lewistown Field Office at the address above during regular business hours, 7:45 a.m. to 4:30 p.m., Monday through Friday, except holidays.

Review copies of the DRMP/EIS are available at the following locations in and near the planning area:

BLM Fort Benton River Management Station

BLM Great Falls Oil @ Gas Field Station

BLM Havre Field Station

BLM Lewistown Field Office

BLM Malta Field Office

BLM Montana State Office

Blaine County Library

Lewistown Public Library

Phillips County Library

The DRMP/EIS and other associated documents may also be viewed and downloaded in PDF format at the Monument RMP Web site at http://www.blm.gov/nhp/spotlight/state_info/planning.htm.

FOR FURTHER INFORMATION CONTACT: For further information and/or to have your name added to the mailing list contact Jerry Majerus, RMP Project Manager, at (406) 538-1924, or Gary Slagel, Monument Manager, at (406) 538-1950.

SUPPLEMENTARY INFORMATION: The Upper Missouri River Breaks National Monument is located in northcentral Montana in Blaine, Chouteau, Fergus, and Phillips Counties. The planning area addressed in the RMP comprises about 375,000 acres of public land and 42,800 acres of existing oil and gas leases administered by the BLM Lewistown Field Office. The State of Montana and Blaine, Chouteau, Fergus, and Phillips Counties participated in development of the plan as cooperating agencies.

The public involvement and collaboration process implemented for this effort included 11 public scoping open houses, 11 alternative development workshops, 6 public meetings on oil and gas leases, preparation of comment summary reports, incorporation of recommendations from the Central Montana Resource Advisory Council (RAC), and distribution of information via the Monument RMP Web site and periodic updates and newsletters. BLM has sent copies of the DRMP/EIS to individuals, agencies, and groups who requested them or if this was required by regulation or policy.

For comments to be most helpful, they should relate to specific concerns or conflicts that are within the legal responsibilities of the BLM and can be resolved in this planning process. BLM will publish its responses to the comments in the Proposed Resource Management Plan and Final Environmental Impact Statement. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

The DRMP/EIS addresses the following six major questions: How will human activities and uses be managed? What facilities and infrastructure are appropriate to provide visitor interpretation and administration of the Monument? How will BLM manage resource uses and protect the biological, historical, cultural, and visual values of the Monument? How will Monument management be intergrated with other agency and community plans? How will transportation and access be managed? How will Monument management affect economic and social conditions in the area?

The DRMP/EIS considers and analyzes six alternatives (A-F), including the No Action (Continuation of Current Management) alternative. BLM developed these alternatives based on extensive public input, including scoping (July/August 2002); alternative development workshops (July 2003); oil and gas lease meetings (November 2004); numerous meetings with local, state, tribal, and Federal agencies; and recommendations made by the Central Montana RAC. The BLM expects to prepare and make available a Proposed RMP and Final Environmental Impact Statement after reviewing comments and making any pertinent adjustments by summer 2006.

Dated: August 19, 2005.
Martin C. Ott,
State Director.

[FR Doc. 05-21569 Filed 10-27-05; 8:45 am]

BILLING CODE 4310-$$—P